DEPARTMENT OF TRANSPORTATION

Federal Motor Carrier Safety Administration

[Docket No. FMCSA-2024-0208]

Notice of Review of Guidance

AGENCY: Federal Motor Carrier Safety Administration (FMCSA), Department of Transportation (DOT).

ACTION: Regulatory guidance; notice of review of guidance; extension of comment period.

SUMMARY: The Federal Motor Carrier Safety Administration (FMCSA) extends the comment period for its August 13, 2024, notice of review of guidance requesting public comment identifying and providing input on existing guidance documents that are good candidates for revision or rescission. FMCSA extends the comment period for 14 days until September 26, 2024.

DATES: The comment period for the notice of review of guidance published August 13, 2024, at 89 FR 65968, is extended. Comments should be received on or before September 26, 2024. FMCSA will consider late-filed comments as part of this review to the extent practicable.

FOR FURTHER INFORMATION CONTACT: Ms. Anna Winkle, Attorney-Advisor, Office of Chief Counsel, FMCSA, 1200 New Jersey Ave. SE, Washington, DC 20590-0001; 202-366-5257; anna.winkle@dot.gov.

SUPPLEMENTARY INFORMATION:

I. Public Participation and Request for Comments

Instructions and additional information concerning submitting comments may be viewed under the ADDRESSES heading and in section I of the SUPPLEMENTARY INFORMATION heading in the August 13, 2024, notice of review of guidance at 89 FR 65968-65969.

II. Background

FMCSA published a notice of review of guidance on August 13, 2024, with a comment deadline of September 12, 2024 (89 FR 65968). That notice sought written input from the public on all FMCSA guidance documents that are good candidates for revision or rescission as part of its regular review of guidance documents under Section 5203(c) of the Fixing America's Surface Transportation Act. The public was encouraged to identify guidance documents that: (1) are inconsistent or unclear; (2) may not be conducive to uniform or consistent enforcement; or (3) are no longer necessary.

On August 26, 2024, CVSA filed a comment requesting a 60-day extension of the comment period (https://www.regulations.gov/comment/FMCSA-2024-0208-0007). CVSA notes that 30 days is not an adequate amount of time to provide substantive, meaningful feedback to the agency on the more than 1,300 individual guidance documents in FMCSA's Guidance Portal. While granting a two-week extension to the comment period, FMCSA notes that public comments on any FMCSA guidance document may be provided at any time.¹

¹ As stated on the homepage of FMCSA's Guidance Portal (https://www.fmcsa.dot.gov/guidance), “[t]o comment on any guidance document, or to request issuance, reconsideration, modification, or rescission of any guidance document, please identify the guidance document in your request and send it to: FMCSAguidance@dot.gov.”

The comment period for the notice of review of guidance is scheduled to close on September 12, 2024. FMCSA believes it is in the public interest to allow for public comment for an extended period. Accordingly, FMCSA extends the comment period for all comments on FMCSA's existing guidance documents for 14 days, until September 26, 2024.

Larry W. Minor,
Associate Administrator, Office of Policy.

[FR Doc. 2024-20596 Filed 9-10-24; 8:45 am]

BILLING CODE 4910-EX-P